DEPARTMENT OF HOUSING AND URBAN DEVELOPMENT

[Docket No. FR-5495-N-01]

Notice of Proposed Information Collection: Comment Request Sustainable Communities Regional Grant Program

AGENCY: Office of Sustainable Housing and Communities, Office of the Deputy Secretary HUD.

ACTION: Notice.

SUMMARY: The proposed information collection requirement described below will be submitted to the Office of Management and Budget (OMB) for review, as required by the Paperwork Reduction Act. The Department is soliciting public comments on the subject proposal.

DATES: Comments Due Date: March 14, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Zuleika Morales-Romero, Grants Division Director, Office of Sustainable Housing and Communities, Department of Housing and Urban Development, 451 7th Street, SW., Washington, DC 20410, telephone (202) 402-7683 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Rating Factor Form, Sustainable Communities Regional Planning Grant Program.

OMB Control Number, if applicable: 2501-0024.

Description of the need for the information and proposed use: In FY2011, the Office of Sustainable Housing and Communities intends to offer its Notice of Funding Availability for the Sustainable Communities Regional Planning Grant Program. In FY2010 45 grants were made totaling $98 million to consortia committed to metropolitan and multijurisdictional planning efforts that integrate housing, land use, economic and workforce development, transportation, and infrastructure investments in a manner that empowers jurisdictions to consider the interdependent challenges of: (1) Economic competitiveness and revitalization; (2) social equity, inclusion, and access to opportunity; (3) energy use and climate change; and (4) public health and environmental impact. The Rating Factor Form is an important data collection tool that contributes to the reviewers' understanding of the context of the region.

Agency form numbers, if applicable: HUD Form 2010.

Estimation of the total numbers of hours needed to prepare the information collection including number of respondents, frequency of response, and hours of response: The number of burden hours is estimated to be 3,000. In FY2010 there were 225 applicants to the program filling in the five sections of the Rating Factor form. The anticipated number of responses is 300, and the burden hour per response is estimated at 10 hours.

Status of the proposed information collection: This is a new collection.

Authority: The Paperwork Reduction Act of 1995, 44 U.S.C., Chapter 35, as amended.

Dated: January 7, 2011.
Shelley R. Poticha.
Director, Office of Sustainable Housing and Communities.

[FR Doc. 2011-657 Filed 1-12-11; 8:45 am]

BILLING CODE 4210-67-P